DEPARTMENT OF AGRICULTURE

Animal and Plant Health Inspection Service

[Docket No. APHIS-2008-0059]

ArborGen, LLC; Availability of an Environmental Assessment and Finding of No Significant Impact for a Controlled Release of Genetically Engineered Eucalyptus Hybrids

AGENCY: Animal and Plant Health Inspection Service, USDA.

ACTION: Notice.

SUMMARY: We are advising the public that the Animal and Plant Health Inspection Service has prepared an environmental assessment for proposed controlled field releases of a genetically engineered clone of a Eucalyptus hybrid. The purpose of this release is to continue research on the efficacy of genetic constructs intended to confer cold tolerance, alter lignin biosynthesis and alter fertility. After assessing the application, reviewing pertinent scientific information, and considering comments provided by the public, APHIS has concluded that these field releases are unlikely to pose a plant pest risk, nor are they likely to have a significant impact on the quality of the human environment. Based on its finding of no significant impact, the Animal and Plant Health Inspection Service has determined that an environmental impact statement need not be prepared for this field release.

EFFECTIVE DATE: May 12, 2010.

ADDRESSES: You may read the documents referenced in this notice and the comments we received in our reading room. The reading room is located in room 1141 of the USDA South Building, 14th Street and Independence Avenue, SW., Washington, DC. Normal reading room hours are 8 a.m. to 4:30 p.m., Monday through Friday, except holidays. To be sure someone is there to help you, please call (202) 690-2817 before coming. Those documents are also available on the Internet at (http://www.aphis.usda.gov/brs/biotech_ea_permits.html) and are posted with the previous notice and the comments we received on the Regulations.gov Web site at (http://www.regulations.gov/fdmspublic/component/main?main=DocketDetail&d=APHIS-2008-0059).

Other Information: Additional information about APHIS and its programs is available on the Internet at (http://www.aphis.usda.gov).

FOR FURTHER INFORMATION CONTACT: To obtain copies of the EA, FONSI, and response to comments, contact Ms. Cynthia Eck at (301) 734-0667; e-mail: cynthia.a.eck@aphis.usda.gov.

SUPPLEMENTARY INFORMATION: The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” A permit must be obtained or a notification acknowledged before a regulated article may be introduced. The regulations set forth the permit application requirements and the notification procedures for the importation, interstate movement, or release in the environment of a regulated article.

On January 11, 2008, the Animal and Plant Health Inspection Service (APHIS) received a permit application (APHIS No. 08-011-106rm) from ArborGen, LLC, in Summerville, SC, for a controlled field release of genetically engineered Eucalyptus hybrids in 19 locations. On January 14, 2008, APHIS received a second permit application (APHIS No. 08-014-101rm) from ArborGen for another controlled release of genetically engineered Eucalyptus hybrids in 10 additional locations. Under these permits, trees allowed to be planted on 28 sites under previously approved permits (APHIS Nos. 06-325-111r, 08-039-102rm, and 08-151-101r) would be allowed to flower on 27 of the 28 sites. The original request was to plant 29 sites and allow 28 to flower, however, one location was removed from permit application 08-014-101rm, which reduced the number to 28 sites, with 27 allowed to flower. If granted, the permits would be issued for 3 years. To continue the field tests beyond this 3-year period, the applicant will be required to submit a renewal for an additional 3 years.

Permit applications 08-11-106rm and 08-014-101rm describe Eucalyptus trees derived from a hybrid of Eucalyptus grandis X Eucalyptus urophylla. The purpose of this release is to continue research on the efficacy of genetic constructs intended to confer cold tolerance, alter lignin biosynthesis and alter fertility. In addition, the trees have been engineered with the kanamycin resistance selectable marker gene (nptII). These DNA sequences were introduced into Eucalyptus trees using disarmed Agrobacterium tumefaciens. The subject Eucalyptus trees are considered regulated articles under the regulations in 7 CFR part 340 because they were created using donor sequences from plant pests.

In a notice¹ published in the Federal Register on June 3, 2009 (74 FR 26648-26649, Docket No. APHIS-2008-0059), APHIS announced the availability of an environmental assessment (EA) for public review and comment for a proposed controlled field release of a genetically engineered clone of a Eucalyptus hybrid. Comments on the EA were required to be received on or before July 6, 2009. Commenters noted that one of the documents cited in the EA, a U.S. Forest Service assessment of hydrological impacts from Eucalyptus, was not available for review. Subsequently, APHIS published a notice in the Federal Register on January 19, 2010 (75 FR 2845, Docket No. APHIS-2008-0059) announcing the availability of an amended EA, which included the U.S. Forest Service document, and reopened the comment period for the environmental assessment an additional 30 days. APHIS also accepted comments received in the interim between the two Federal Register notices. There were 45 respondents that supported issuance of the permit; and 12,462 respondents who were opposed. Further information regarding the nature of the comments received, as well as APHIS’ response to those comments are contained in the response to comments document (see ADDRESSES above).

¹ To view the notice, the environmental assessment, and the comments we received, go to (http://www.regulations.gov/search/Regs/home.html#docketDetail?R=APHIS-2008-0059)

Pursuant to the regulations promulgated under the Plant Protection Act, APHIS has determined that this field release is unlikely to pose a risk of introducing or disseminating a plant pest. Additionally, based upon analysis described in the EA, APHIS has determined that the action proposed in Alternative B of the EA - issue the permit with supplemental permit conditions - is unlikely to have a significant impact on the quality of the human environment. The EA, finding of no significant impact (FONSI), and response to comments documents are available as indicated in the ADDRESSES sections of this notice. Copies may also be obtained from the person listed under the FOR FURTHER INFORMATION CONTACT section of this notice.

To provide the public with documentation of APHIS’ review and analysis of any potential environmental impacts and plant pest risks associated with the proposed release of these Eucalyptus trees, an EA and FONSI have been prepared. The EA and FONSI were prepared in accordance with (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

Authority: 7 U.S.C. 7701-7772 and 7781-7786; 31 U.S.C. 9701; 7 CFR 2.22, 2.80, and 371.3.

Done in Washington, DC, this 10th day of May 2010.

Kevin Shea
Acting Administrator, Animal and Plant Health Inspection Service.

[FR Doc. 2010-11437 Filed 5-11-10; 9:22 am]

BILLING CODE 3410-34-S